DEPARTMENT OF THE TREASURY

Office of Foreign Assets Control

Unblocking of Specially Designated Nationals and Blocked Persons Pursuant to Executive Order 13396

AGENCY: Office of Foreign Assets Control, Treasury.

ACTION: Notice.

SUMMARY: The Treasury Department's Office of Foreign Assets Control (OFAC) is removing the names of two individuals whose property and interests in property have been blocked pursuant to Executive Order 13396, “Blocking Property of Certain Persons Contributing to the Conflict in Côte d'Ivoire,” from the List of Specially Designated Nationals and Blocked Persons (SDN List).

DATES: OFAC's actions described in this notice are effective as of July 30, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION: The SDN List and additional information concerning OFAC sanctions programs are available from OFAC's Web site (www.treasury.gov/ofac). Certain general information pertaining to OFAC's sanctions programs is also available via facsimile through a 24-hour fax-on-demand service, tel.: 202/622-0077.

Notice of OFAC Actions

On July 30, 2015, OFAC determined that circumstances no longer warrant the inclusion of the following two individuals on OFAC's SDN list, and that these individuals are no longer subject to the blocking provisions of Section 1(a) of E.O. 13396:

1. DJEDJE, Alcide Ilahiri (a.k.a. DJEDJE, Ilahiri Alcide; a.k.a. ILAHIRI, Alcide Djedje); DOB 1956 (individual) [COTED]

2. N'GUESSAN, Pascal Affi (a.k.a. NGUESSAN, Affi); DOB 1953; POB Bongouanou, Côte d'Ivoire (individual) [COTED]

Dated: July 30, 2015.
John E. Smith,
Acting Director, Office of Foreign Assets Control.

[FR Doc. 2015-19597 Filed 8-7-15; 8:45 am]

BILLING CODE 4810-AL-P